DEPARTMENT OF DEFENSE

Department of the Army

[Docket ID USA-2011-0016]

Privacy Act of 1974; System of Records

AGENCY: Department of the Army, DoD.

ACTION: Notice to Amend a System of Records.

SUMMARY: The Department of the Army is proposing to amend a system of records notice in its existing inventory of records systems subject to the Privacy Act of 1974, (5 U.S.C. 552a), as amended.

DATES: The changes will be effective on August 5, 2011 unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905, or by phone (703) 428-6185.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: June 29, 2011.
Aaron Siegel,
Alternate OSD Federal Register Liaison Officer, Department of Defense.

A0015-185 SFMR

System name:

Correction of Military Records Cases (January 28, 2008, 73 FR 4852).

Changes:

* * * * *

Authority for maintenance of the system:

Delete entry and replace with “5 U.S.C. 301, Departmental Regulations; 10 U.S.C. 3013, Secretary of the Army; 10 U.S.C. 1552, Correction of military records: Claims incident thereto, 10 U.S.C. 1214, Armed Forces; Right to a Full and Fair Hearing; 10 U.S.C. 1216, Secretaries, powers, functions and duties; 10 U.S.C. 1553, Review of Discharge or Dismissal; 10 U.S.C. 1554, Military Personnel Benefits and E.O. 9397 (SSN), as amended.”

* * * * *

A0015-185 SFMR

System name:

Correction of Military Records Cases.

System location:

Army Review Boards Agency, 1901 South Bell Street, 2nd Floor, Arlington, VA 22202-4508. Copy of Board decision is incorporated in petitioner's Official Military Personnel File except where such action would nullify relief granted, in which case application and decisions are retained in files of the Correction Board.

Categories of individuals covered by the system:

Present or former members of the U.S. Army, U.S. Army Reserve or Army National Guard or their authorized representatives who apply for the correction of his/her military records and review of Discharge from the Armed Forces of the United States.

Categories of records in the system:

Application for Correction of Military Record (DD Form 149), Application for the Review of Discharge from the Armed Forces of the United States (DD 293), individual's name (first and last), address, telephone number, email, fax number, branch of service, rank, social security number (SSN), date of discharge, type of discharge, relevant information pertaining to discharge or military corrective action, counselor's name, counselor's address, counselor's phone number and email, documentary evidence, affidavits, information from individual's military record pertinent to corrective action requested, testimony, hearing transcripts when appropriate, briefs/arguments, advisory opinions, findings, conclusions and decisional documents of the Board.

Authority for maintenance of the system:

5 U.S.C. 301, Departmental Regulations; 10 U.S.C. 3013, Secretary of the Army; 10 U.S.C. 1552, Correction of military records: Claims incident thereto, 10 U.S.C. 1214, Armed Forces; Right to a Full and Fair Hearing; 10 U.S.C. 1216, Secretaries, powers, functions and duties; 10 U.S.C. 1553, Review of Discharge or Dismissal; 10 U.S.C. 1554, Military Personnel Benefits and E.O. 9397 (SSN), as amended.

Purpose(s):

Records are used by the Board to consider all applications properly before it to determine the existence of an error or an injustice.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To the Department of Justice when cases are litigated.

The DoD “Blanket Routine Uses” set forth at the beginning of the Army's compilation of systems of records notices also apply to this system.

Policies and practices for storing, retrieving, accessing, retaining, and disposing of records in the system:

Storage:

Paper records in file folders and electronic storage media.

Retrievability:

Applicant's surname, Social Security Number (SSN) and/or number assigned to applicant.

Safeguards:

Information is privileged, and restricted to individuals who have a need for the record in the performance of their official duties. Computer terminals with access to the records are located in rooms with authorized personnel. These rooms are locked when unoccupied. Common Access Card (CAC) certificates and PIN, or login and passwords are used to support the minimum requirements of accountability, access control, least privilege, and data integrity. Additionally, intrusion detection systems, malicious code protection, and firewalls are used.

Retention and disposal:

Records are retained at the Army Review Boards Agency for at least 6 months after case is closed and then retired to the National Personnel Records Center where they are retained for 20 years.

System manager(s) and address:

Director, Army Review Boards Agency, 1901 South Bell Street, 2nd Floor, Arlington, VA 22202-4508.

Notification procedure:

Individuals seeking to determine whether information about themselves is contained in this system should address written inquiries to the Director, Army Review Boards Agency, 1901 South Bell Street, 2nd Floor, Arlington, VA 22202-4508.

Individual must furnish full name, Social Security Number, service number if assigned, current address and telephone number, information that will assist in locating the record, and signature.

Record access procedures:

Individuals seeking access to information about themselves contained in this system should address written inquiries to the Director, Army Review Boards Agency, 1901 South Bell Street, 2nd Floor, Arlington, VA 22202-4508.

Individual must furnish full name, Social Security Number (SSN), service number if assigned, current address and telephone number, information that will assist in locating the record, and signature.

Contesting record procedures:

The Army's rules for accessing records, and for contesting contents and appealing initial agency determinations are contained in Army Regulation 340-21; 32 CFR Part 505; or may be obtained from the system manager.

Record source categories:

From the individual, his/her Official Military Personnel File, other Army records/reports, relevant documents from any source.

Exemptions claimed for the system:

None.

[FR Doc. 2011-16835 Filed 7-5-11; 8:45 am]

BILLING CODE 5001-06-P